CONSUMER PRODUCT SAFETY COMMISSION

[Docket No. CPSC-2012-0024]

Agency Information Collection Activities; Extension of Approval of Information Collection; Notification Requirements for Coal and Wood Burning Appliances

AGENCY: Consumer Product Safety Commission.

ACTION: Notice of information collection; request for comment.

SUMMARY: As required by the Paperwork Reduction Act of 1995, the Consumer Product Safety Commission (CPSC or Commission) announces that the Commission has submitted to the Office of Management and Budget (OMB) a request for extension of approval of information collection regarding notification requirements for coal and wood burning appliances. OMB previously approved the collection of information under Control Number 3041-0040. OMB's most recent extension of approval will expire on March 31, 2025. On December 3, 2024, CPSC published a notice in the Federal Register to announce the agency's intention to seek extension of approval of the collection of information. The Commission did not receive any public comments. Therefore, by publication of this notice, the Commission announces that CPSC has submitted to the OMB a request for extension of approval of that collection of information.

DATES: Submit comments on the collection of information by March 31, 2025.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at http://www.regulations.gov, under Docket No. CPSC-2012-0024.

FOR FURTHER INFORMATION CONTACT: Cynthia Gillham, Consumer Product Safety Commission, 4330 East West Highway, Bethesda, MD 20814; (301) 504-7791, or by email to: pra@cpsc.gov.

SUPPLEMENTARY INFORMATION: CPSC seeks to renew the following currently approved collection of information:

Title: Notification Requirements for Coal and Wood Burning Appliances.

OMB Number: 3041-0040.

Type of Review: Renewal of collection.

Frequency of Response: On occasion.

Affected Public: Manufacturers and importers of coal and wood burning appliances.

Estimated Number of Respondents: We estimate five responses annually.

Estimated Time per Response: We estimate three hours per submission and 30 minutes for collecting and mailing the information to the CPSC.

Total Estimated Annual Burden: The total estimated annual burden is 17.5 hours (5 submissions × 3.5 hours).

Total Estimated Annual Cost to Respondents: The total estimated annualized respondent cost is approximately $795, based on an average total hourly employee compensation rate of $45.41 for private industry workers in goods producing industries (17.5 hours × $45.41 = $794.68) (U.S. Bureau of Labor Statistics, Employer Costs for Employee Compensation, Table 4, June 2024, https://www.bls.gov/news.release/archives/ecec_09102024.pdf).

General Description of Collection: In 16 CFR part 1406, Coal and Wood Burning Appliances—Notification of Performance and Technical Data, issued under Section 27(e) of the Consumer Product Safety Act, 15 U.S.C. 2076(e), CPSC requires that certain performance and technical data be supplied on labeling attached to or accompanying each model of coal and wood burning stoves, freestanding fireplaces, similar appliances, and in instruction manuals provided with the appliances so consumers will be aware of important safety information concerning the installation, operation, and maintenance of these appliances. In addition, catalogs and other point-of-sale literature are required to contain appropriate clearances and other information. The rule also contains a requirement that manufacturers provide to the Commission copies of the notice (label) and the directions (instruction manual). Manufacturers must also provide the Commission with a statement of the reasons supporting the manufacturer's conclusion that clearance distances stated in the notice to consumers are appropriate for preventing fires, for each stove model manufactured. This information must also be supplied when there is any change in the required data or when a new model is introduced.

All known manufacturers are believed to have already complied with the requirements for providing information in labels, manuals, catalogs, and point-of-sale literature and the requirements for submitting all labels and owner's manuals. For the known manufacturers, there should be no additional burden associated with the requirements of 16 CFR part 1406, except when existing models are changed, or new models are introduced. We anticipate that there will be no more than five submissions annually as a result of new stove models coming into the market or new firms entering the market.

Alberta E. Mills,
Secretary, Consumer Product Safety Commission.

[FR Doc. 2025-03157 Filed 2-26-25; 8:45 am]

BILLING CODE 6355-01-P